DEPARTMENT OF TRANSPORTATION

Maritime Administration

Marine Transportation System National Advisory Council

ACTION: National Advisory Council public meeting.

SUMMARY: The Maritime Administration announces that the Marine Transportation System National Advisory Council (MTSNAC) will hold a meeting to discuss recommendations to the Secretary on the integration of marine highways into the national transportation system and the development of a steady and reliable funding mechanism for port infrastructure development. A public comment period will commence at 1:30 p.m. on May 8, 2012. To provide time for as many people to speak as possible, speaking time for each individual will be limited to three minutes. Members of the public who would like to speak are asked to contact Richard J. Lolich by May 1, 2012. Commenters will be placed on the agenda in the order in which notifications are received. If time allows, additional comments will be permitted. Copies of oral comments must be submitted in writing at the meeting. Additional written comments are welcome and must be filed by May 11, 2012.

DATES: The meeting will be held on Tuesday, May 8, 2012, from 9:30 a.m. to 5 p.m.

ADDRESSES: The meeting will be held in the Media Center at the U.S. Department of Transportation Headquarters, 1200 New Jersey Ave. SE., Washington, DC 20590. To participate via teleconference, please contact Richard Lolich at the Maritime Administration as indicated below.

FOR FURTHER INFORMATION CONTACT: Richard Lolich, (202) 366-0704; Maritime Administration, MAR-540, Room W21-310, 1200 New Jersey Ave. SE., Washington, DC 20590-0001; richard.lolich@dot.gov.

Authority: 5 U.S.C. App 2, Sec. 9(a)(2); 41 CFR 101-6. 1005; DOT Order 1120.3B.

Dated: April 19, 2012.
By order of the Maritime Administrator.
Julie P. Agarwal,
Secretary, Maritime Administration.

[FR Doc. 2012-9835 Filed 4-23-12; 8:45 am]

BILLING CODE 4910-81-P